DEPARTMENT OF ENERGY

Federal Energy Regulatory Commission

18 CFR Part 2

[Docket No. RM25-14-001]

Implementation of the Executive Order Entitled “Zero-Based Regulatory Budgeting To Unleash American Energy”; Partial Recission

AGENCY: Federal Energy Regulatory Commission.

ACTION: Direct final rule.

SUMMARY: The Commission is partially rescinding a direct final rule that inserted a conditional sunset date into certain regulations. The Commission is rescinding the sunset provision from one regulation because it received a significant adverse comment in response to an identical proposed rule which was published concurrently with the direct final rule.

DATES: This rule is effective January 20, 2026.

FOR FURTHER INFORMATION CONTACT: Karin Herzfeld, Office of the General Counsel, Federal Energy Regulatory Commission, 888 First Street NE, Washington, DC 20426, (202) 502-8459, karin.herzfeld@ferc.gov.

SUPPLEMENTARY INFORMATION:

1. In the Direct Final Rule ¹ (90 FR 48397, October 21, 2025), the Commission stated that if any significant adverse comments are received on any part of the Direct Final Rule, the Commission will publish a document that rescinds any such part of this action and will address the comments received in a subsequent final rule as a response to the companion proposed rule.

¹ Implementation of the Executive Order Entitled “Zero-Based Regulatory Budgeting to Unleash American Energy, 193 FERC ¶ 61,002 (2025) (Direct Final Rule).

2. The Commission received a significant adverse comment on the amendment to insert a conditional sunset provision in 18 CFR 2.27 (Availability of North American Energy Standards Board (NAESB) Smart Grid Standards as non-mandatory guidance); therefore, the Commission is rescinding that amendment to 18 CFR 2.27.

3. As stated in the Direct Final Rule, the Commission will address the comment received on the companion proposed rule in a subsequent final rule. The Commission will not initiate a second comment period on this action.

List of Subjects in 18 CFR Part 2

Electric utilities, Natural gas, Pipelines, Reporting and recordkeeping requirements.

By the Commission.
Issued: December 15, 2025.
Debbie-Anne A. Reese,
Secretary.

In consideration of the foregoing, the Commission amends part 2, chapter I, title 18, Code of Federal Regulations, as follows:

PART 2—GENERAL POLICY AND INTERPRETATIONS

1. The authority citation for part 2 continues to read as follows:

Authority: 5 U.S.C. 601; 15 U.S.C. 717-717z, 3301-3432; 16 U.S.C. 792-828c, 2601-2645; 42 U.S.C. 4321-4370h, 7101-7352.

§ 2.27 [Amended]

2. Amend § 2.27 by removing paragraph (g).

[FR Doc. 2025-23294 Filed 12-17-25; 8:45 am]

BILLING CODE 6717-01-P